DEPARTMENT OF AGRICULTURE

Submission for OMB Review; Comment Request

April 10, 2014.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology.

Comments regarding this information collection received by May 15, 2014 will be considered. Written comments should be addressed to: Desk Officer for Agriculture, Office of Information and Regulatory Affairs, Office of Management and Budget (OMB), New Executive Office Building, 725—17th Street NW., Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: National Animal Health Monitoring System; Bison 2014 Study

OMB Control Number: 0579-NEW

Summary of Collection: Collection and dissemination of animal health data and information is mandated by 7 U.S.C. 391, the Animal Industry Act of 1884, which established the precursor of the Animal and Plant Health Inspection Service (APHIS), Veterinary Services (VS), the Bureau of Animal Industry. Legal requirements for examining and reporting on animal disease control methods were further mandated by 7 U.S.C. 8308 of the Animal Health Protection Act, “Detection, Control, and Eradication of Diseases and Pests,” May 13, 2002. The National Animal Health Monitoring System (NAHMS') will initiate the first national data collection for ranched Bison through the 2014 study. The study is designed to collect information on operations that have ranched bison, as reported to the U.S. Census of Agriculture.

Need and Use of the Information: APHIS will use the data collected to: (1) Provide a baseline description of the U.S. bison industry, including basic characteristics of operations, such as inventory, size, and type, (2) Describe current U.S. bison industry production practices and challenges, including identification, confinement and handling, animal care, and disease testing, (3) Describe health management and biosecurity practices important for the productivity and health of farmed bison, and (4) Describe producer-reported occurrence of select health problems and evaluate potentially associated risk factors. Without this type of national data, the United States will have no ability to understand and develop information on trends in management, production, and health status factors that increase/decrease farm economy or productivity either directly or indirectly.

Description of Respondents: Business or other for-profit.

Number of Respondents: 3,000.

Frequency of Responses: Reporting: On occasion.

Total Burden Hours: 396.

Animal and Plant Health Inspection Service

Title: Conducting Aquatic Animal tests for Export Health Certificates.

OMB Control Number: 0579-NEW.

Summary of Collection: The Animal Health Protection Act (APHA) of 2002 is the primary Federal law governing the protection of animal health. The AHPA is contained in Title X, Subtitle E, Sections 10401-18 of Public Law 107-171, May 13, 2002, the Farm Security and Rural Investment Act of 2002. The law gives the Secretary of Agriculture broad authority to detect, control, or eradicate pests or diseases of livestock or poultry. The Secretary may also prohibit or restrict import or export of any animal or related material if necessary to prevent the spread of any livestock or poultry. To facilitate the export of U.S. animals and animal products, the Animal and Plant Health Inspection Service (APHIS) maintains information regarding the import health requirements of other countries for animals and animal products, including aquaculture animals, exported from the United States.

Need and Use of the Information: APHIS will collect the following information to certify laboratories for aquaculture export activities: (1) Notification for Intent to Request Approval (2) Application for APHIS Approval (3) Protocol Statement (4) Submission of Sample Copies of Diagnostic Reports (5) Recordkeeping of Sample Copies of Diagnostic Reports (6) Quality Assurance/Control Plans (7) Recordkeeping of Quality Assurance/Control Plans (8) Notification of Proposed Changes to Assay Protocols (9) Recordkeeping: Supporting Assay Documentation (10) Request for Removal of Approved Status. If APHIS cannot collect this information, it cannot approve the laboratory assays that support exports from U.S. producers.

Description of Respondents: Business or other for-profit; State, Local or Tribal Government.

Number of Respondents: 12.

Frequency of Responses: Reporting: Annually.

Total Burden Hours: 18,336.

Animal and Plant Health Inspection Service

Title: Importation of Pomegranates from Chile under a System Approach.

OMB Control Number: 0579-0375.

Summary of Collection: Under the Plant Protection Act (7 U.S.C. 7701-7772), the Secretary of Agriculture is authorized to prohibit or restrict the importation, entry, or movement of plants and plant pests to prevent the introduction of plant pests into the United States or their dissemination within the United States. The regulations in “Subpart-Fruit and Vegetables” (7 CFR 319.56-58), prohibit or restrict the importation of fruits and vegetables into the United States from certain parts of the world to prevent the introduction and dissemination within the United States. The importation of pomegranates from Chile, into the continental United States, is under a system approach in which the fruit must be grown in a place of production that is registered with the Government of Chile and certified as having a low prevalence of Brevipalpus chilensis. The fruit undergoes pre-harvest sampling at the registered production site. After the post-harvest process, the fruit is inspected in Chile at an approved inspection site.

Need and Use of the Information: The Animal and Plant Health Inspection Service will use the following activities to collect information: Phytosanitary Certificate with/Additio9nal Declaration, Production Site Registration, Marking of Cartons with Registration Number, and List of Certified Production Sites. Falling to collect this information would cripple APHIS' ability to ensure pomegranates from Chile are not carrying plant pests.

Description of Respondents: State, Local or Tribal Government; Federal Government.

Number of Respondents: 3.

Frequency of Responses: Reporting: On occasion.

Total Burden Hours: 150.

Ruth Brown,
Departmental Information Collection Clearance Officer.

[FR Doc. 2014-08498 Filed 4-14-14; 8:45 am]

BILLING CODE 3410-34-P